COMMITTEE FOR PURCHASE FROM PEOPLE WHO ARE BLIND OR SEVERELY DISABLED

Procurement List; Corrections

AGENCY: Committee for Purchase From People Who Are Blind or Severely Disabled.

ACTION: A correction is made to the Federal Register published by the Committee in proposing to add to and delete from the Procurement List a product and services on January 11, 2010 (75 FR 1354-1355). The correct date that comments should be received is February 11, 2010.

Action: A correction is made to the Federal Register published by the Committee in adding services to and deleting from the Procurement List products and services on January 11, 2010 (75 FR 1355-1356). The correct effective date should be February 11, 2010.

ADDRESSES: Committee for Purchase From People Who Are Blind or Severely Disabled, Jefferson Plaza 2, Suite 10800, 1421 Jefferson Davis Highway, Arlington, Virginia 22202-3259.

For Further Information or To Submit Comments Contact: Barry S. Lineback, Telephone: (703) 603-7740, Fax: (703) 603-0655, or e-mail CMTEFedReg@AbilityOne.gov.

Barry S. Lineback,
Director, Business Operations.

[FR Doc. 2010-644 Filed 1-14-10; 8:45 am]

BILLING CODE 6353-01-P